DEPARTMENT OF HEALTH AND HUMAN SERVICES

Centers for Disease Control and Prevention

Disease, Disability, and Injury Prevention and Control Special Emphasis Panel (SEP)—RFA-IP-21-001, Promoting the Importance of Infant and Childhood Vaccination Among Pregnant Women by Prenatal Care Providers; and RFA-IP-21-002, US Enhanced Surveillance Network to Assess Burden, Natural History, and Effectiveness of Vaccines To Prevent Enteric and Respiratory Viruses in Children; Amended Notice of Meeting

Notice is hereby given of a change in the meeting of the Disease, Disability, and Injury Prevention and Control Special Emphasis Panel (SEP)—RFA-IP-21-001, Promoting the Importance of Infant and Childhood Vaccination Among Pregnant Women by Prenatal Care Providers; and RFA-IP-21-002, US Enhanced Surveillance Network to Assess Burden, Natural History, and Effectiveness of Vaccines to Prevent Enteric and Respiratory Viruses in Children; April 13-14, 2021, 10 a.m.-5 p.m., EDT, Teleconference, Centers for Disease Control and Prevention, Room 1080, 8 Corporate Square Boulevard, Atlanta, Georgia 30329-4027. The meeting was published in the Federal Register on January 11, 2021, Volume 86, Number 6, page 1976.

The meeting is being amended to change the title and meeting date of the special emphasis panel from RFA-IP-21-001, Promoting the Importance of Infant and Childhood Vaccination Among Pregnant Women by Prenatal Care Providers; and RFA-IP-21-002, US Enhanced Surveillance Network to Assess Burden, Natural History, and Effectiveness of Vaccines to Prevent Enteric and Respiratory Viruses in Children; April 13-14, 2021, 10 a.m.-5 p.m., EDT to RFA-IP-21-001, Promoting the Importance of Infant and Childhood Vaccination Among Pregnant Women by Prenatal Care Providers; and RFA-IP-21-003, Collaborative Research on Influenza, Coronavirus Disease 2019 (COVID-19), and Other Respiratory Pathogens in South Africa; May 13, 2021, 10 a.m.-5 p.m., EDT. The meeting is closed to the public.

FOR FURTHER INFORMATION CONTACT: Gregory Anderson, M.S., M.P.H., Scientific Review Officer, CDC, 1600 Clifton Road NE, Mailstop US8-1, Atlanta, Georgia 30329-4027, (404) 718-8833, ganderson@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-06006 Filed 3-23-21; 8:45 am]

BILLING CODE 4163-18-P